DEPARTMENT OF ENERGY

Federal Energy Regulatory Commission

[Project No. 14446-001]

Peabody Trout Creek Reservoir LLC;

Notice of Preliminary Permit Application Accepted for Filing and Soliciting Comments, Motions To Intervene, and Competing Applications

On November 30, 2012, Peabody Trout Creek Reservoir LLC (Peabody) filed an application for a preliminary permit, pursuant to section 4(f) of the Federal Power Act, proposing to study the feasibility of the Peabody Trout Creek Reservoir Hydroelectric Project (Trout Creek Reservoir Project or project) to be located on Trout Creek, near Steamboat Springs, Routt County, Colorado. The sole purpose of a preliminary permit, if issued, is to grant the permit holder priority to file a license application during the permit term. A preliminary permit does not authorize the permit holder to perform any land-disturbing activities or otherwise enter upon lands or waters owned by others without the owners' express permission.

The proposed project would consist of: (1) A 1,900-foot-long, 75-foot-high, compacted earth-fill dam with a normal high water elevation of 6,669 feet above mean sea level forming a 392-acre reservoir and impounding 11,720 acre-feet of water; (2) a primary spillway consisting of a 54-inch-diameter ductile iron reinforced concrete conduit; (3) a 200-foot-long, earthen, side-channel emergency spillway with an armored crest, sides, and outlet works and a width that varies between 350 feet at the crest and 500 feet at the exit spillway; (4) water supply and hydropower intakes consisting of three separate intakes discharging from three levels inside the reservoir pool; (5) a 40-foot by 30-foot, two-story combined water treatment plant, pump station, and powerhouse containing a 125-kilowatt turbine-generator; (6) a 200-foot-long primary transmission line connecting to an existing 7.2-kilovolt transmission line owned by Yampa Valley Electric Association; and (7) appurtenant facilities. The project would generate an estimated average of 756 megawatt-hours annually.

Applicant Contact: Brian Yansen, Director of Real Estate Development, Peabody Trout Creek Reservoir LLC, 701 Market Street, St. Louis, Missouri 63101-1826; phone: (314) 342-3400.

FERC Contact: Shana Murray; phone: (202) 502-8333.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14446) in the docket number field to access the document. For assistance, contact FERC Online Support.

Dated: December 4, 2012.
Kimberly D. Bose,
Secretary.

[FR Doc. 2012-29793 Filed 12-10-12; 8:45 am]

BILLING CODE 6717-01-P